DEPARTMENT OF ENERGY

Federal Energy Regulatory Commission

Combined Notice of Filings #1

Take notice that the Commission received the following exempt wholesale generator filings:

Docket Numbers: EG20-111-000.

Applicants: Wind Wall 1 LLC.

Description: Notice of Self-Certification of Exempt Wholesale Generator Status of Wind Wall 1 LLC.

Filed Date: 4/2/20.

Accession Number: 20200402-5130.

Comments Due: 5 p.m. ET 4/23/20.

Take notice that the Commission received the following electric rate filings:

Docket Numbers: ER19-846-006.

Applicants: Antelope DSR 3, LLC.

Description: Notice of Non-Material Change in Status of Antelope DSR 3, LLC.

Filed Date: 4/2/20.

Accession Number: 20200402-5158.

Comments Due: 5 p.m. ET 4/23/20.

Docket Numbers: ER19-847-006.

Applicants: San Pablo Raceway, LLC.

Description: Notice of Non-Material Change in Status of San Pablo Raceway, LLC.

Filed Date: 4/2/20.

Accession Number: 20200402-5160.

Comments Due: 5 p.m. ET 4/23/20.

Docket Numbers: ER19-2399-001.

Applicants: Caden Energix Hickory LLC.

Description: Notice of Non-Material Change in Status of Caden Energix Hickory LLC.

Filed Date: 4/2/20.

Accession Number: 20200402-5156.

Comments Due: 5 p.m. ET 4/23/20.

Docket Numbers: ER20-1490-000.

Applicants: PJM Interconnection, L.L.C.

Description: § 205(d) Rate Filing: Original WMPA, Service Agreement No. 5613; Queue No. AE2-225 to be effective 3/10/2020.

Filed Date: 4/3/20.

Accession Number: 20200403-5028.

Comments Due: 5 p.m. ET 4/24/20.

Docket Numbers: ER20-1491-000.

Applicants: Wind Wall 1 LLC.

Description: Baseline eTariff Filing: Application for MBR Authority, Request for Waivers and Blanket Authority to be effective 12/31/9998.

Filed Date: 4/3/20.

Accession Number: 20200403-5056.

Comments Due: 5 p.m. ET 4/24/20.

Docket Numbers: ER20-1492-000.

Applicants: Pacific Gas and Electric Company.

Description: § 205(d) Rate Filing: 4-3-20 Unexecuted Agreement, City and County of San Francisco WDT SA (SA 275) to be effective 6/3/2020.

Filed Date: 4/3/20.

Accession Number: 20200403-5085.

Comments Due: 5 p.m. ET 4/24/20.

Docket Numbers: ER20-1493-000.

Applicants: PJM Interconnection, L.L.C.

Description: § 205(d) Rate Filing: Amendment to ISA No. 2011, Queue No. O18 (consent) to be effective 7/17/2008.

Filed Date: 4/3/20.

Accession Number: 20200403-5140.

Comments Due: 5 p.m. ET 4/24/20.

Docket Numbers: ER20-1494-000.

Applicants: Puget Sound Energy, Inc.

Description: Request for Waiver of Tariff Provisions, et al. of Puget Sound Energy, Inc.

Filed Date: 4/3/20.

Accession Number: 20200403-5144.

Comments Due: 5 p.m. ET 4/8/20.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: April 3, 2020.
Nathaniel J. Davis, Sr.,
Deputy Secretary.

[FR Doc. 2020-07493 Filed 4-8-20; 8:45 am]

BILLING CODE 6717-01-P